DEPARTMENT OF THE INTERIOR

Bureau of Land Management

[LLOR-936000-L14300000-FQ0000; HAG-09-0142; OR-20249]

Public Land Order No. 7750; Partial Revocation of Secretarial Order dated January 20, 1910; Oregon

AGENCY: Bureau of Land Management, Interior.

ACTION: Public land order.

SUMMARY: This order partially revokes a Secretarial Order dated January 20, 1910, insofar as it affects approximately 9,001.84 acres of public land withdrawn for use by the Bureau of Reclamation for reclamation purposes. The land is no longer needed for the purpose for which it was withdrawn.

DATES: Effective Date: September 28, 2010.

FOR FURTHER INFORMATION CONTACT: Charles R. Roy, BLM Oregon/Washington State Office, P.O. Box 2965, Portland, Oregon 97208-2965, 808-952-6189.

SUPPLEMENTARY INFORMATION: The land is located entirely within the exterior boundary of the Upper Klamath National Wildlife Refuge and will remain closed to the public land laws, including the mining laws. The land will continue to be managed by the United States Fish and Wildlife Service.

Order

By virtue of the authority vested in the Secretary of the Interior by Section 204 of the Federal Land Policy and Management Act of 1976, 43 U.S.C. 1714, it is ordered as follows:

The Secretarial Order dated January 20, 1910, which withdrew land on behalf of the Bureau of Reclamation for the Klamath Reclamation Project is hereby revoked insofar as it affects the following described land:

Willamette Meridian

T. 34 S., R. 6 E.,

Sec. 25, NE¼ and S½;

Sec. 26, NE¼SE¼ and S½SE¼;

Sec. 35, E½E½ and E½W½NE¼;

Sec. 36.

T. 35 S., R. 6 E.,

Sec. 1, lots 1 through 4, inclusive, S½N½, and S½;

Sec. 2, lot 1, S½NE¼, and SE¼;

Secs. 12, 13, 24, and 25;

Sec. 35, E½;

Sec. 36.

T. 36 S., R. 6 E.,

Sec. 1;

Sec. 2, lot 3, E½, SE¼NW¼, and SW¼;

Sec. 3, E½SE¼;

Sec. 11, NE¼ and S½;

Sec. 12;

Sec. 13, N½ and E½SE¼;

Sec. 14, NE¼, N½NW¼, SE¼NW¼, and NW¼SE¼.

The area described contains approximately 9,001.84 acres, more or less, in Klamath County.

Authority: 43 CFR 2370.

Dated: September 13, 2010.
Wilma A. Lewis,
Assistant Secretary—Land and Minerals Management.

[FR Doc. 2010-24285 Filed 9-27-10; 8:45 am]

BILLING CODE 4310-MN-P